DEPARTMENT OF HEALTH AND HUMAN SERVICES

Agency for Healthcare Research and Quality

AHRQ Health Care Innovations Exchange

AGENCY: Agency for Healthcare Research and Quality (AHRQ), HHS.

ACTION: Notice of Submission of Innovations.

SUMMARY: To support its objective of accelerating the diffusion and adoption of innovative health care delivery changes, the Agency for Healthcare Research and Quality (AHRQ) recently launched version 1.0 of the AHRQ Health Care Innovations Exchange (HCIE) Web site, http://www.innovations.ahrq.gov. The HCIE is a new initiative designed to support health care professionals in sharing and adopting innovations that improve health care quality. Version 1.0 of the Web site is focused on stimulating creativity and innovation and will serve as a virtual place to which innovators will be encouraged to submit their innovations and experiences from which potential adopters can begin learning about the nuances of implementation.

In Spring 2008, AHRQ will deploy version 2.0 of its Health Care Innovations Exchange site making hundreds of profiles of health care service innovations of varying degrees of novelty and scientific rigor accessible to the public. Version 2.0 will also offer expert commentary; stories; tools; lessons learned; “change packages”—sets of innovations implemented simultaneously; expanded content on implementation; and opportunities to learn and network.

To build the database of innovations profiles, AHRQ invites submissions of health service innovations to its Health Care Innovations Exchange. The AHRQ Health Care Innovations Exchange database will cover the broad spectrum of health care settings, systems, and providers. Public health priority diseases/conditions, priority populations, and efforts to reduce disparities in quality will be highlighted.

The AHRQ Health Care Innovations Exchange is seeking a broad range of novel health care strategies, activities, and tools. AHRQ invites participation in its Health Care Innovations Exchange by submitting descriptions of innovative efforts to improve the delivery of health care services.

DATES: There is no deadline for submission. It is a continuous submission and review process.

Special Incentive To Submit

AHRQ will provide early submitters (those who submit by January 15, 2008) and opportunity to preview and comment on version 2.0 of the Health Care Innovations Exchange Web site via a secure mechanism. In this preview, an opportunity will be given to browse and search the innovations profiled up to that point.

ADDRESSES: Submit to info@innovations.ahrq.gov.

How To Submit

To submit a health care innovation for possible posting, send a description of the innovation that would include the health care setting and patient population it is our could be used for and any results that have been documented, to the Health Care Innovations Exchange at info@innovations.ahrq.gov. Please use the words “Innovation Submission” in the subject line. If you prefer, you can fax information about your innovation to 301-610-4950. You may also mail information to Mary Nix, Agency for Healthcare Research and Quality, Center for Outcomes and Evidence, 540 Gaither Road, Rockville, MD 20850. Detailed information on submitting can be obtained from the AHRQ Health Care Innovations Exchange Web page titled “Share Your Innovations”, http://www.innovations.ahrq.gov/share/share.aspx.

Supporting documents may be sent with the submission. Once AHRQ has reviewed your submission and identified it as a priority item for posting, AHRQ will contact the submitter to discuss the details regarding what will be included in standardized postings. Copyright or other intellectual property issues, if any, will be addressed at that time.

If the innovation is accepted for inclusion, AHRQ will develop a detailed profile and send it to the submitter to review for accuracy and completeness. The innovation will then be ready for publication in Version 2.0 of the Health Care Innovations Exchange scheduled for public release in Spring 2008.

FOR FURTHER INFORMATION CONTACT: Explore: http://www.innovations.ahrq.gov; And/Or Contact: Mary P. Nix, MS, MT(ASCP)SBB, Health Scientist Administrator, Agency for Healthcare Research and Quality, 540 Gaither Road, Rockville, MD 20850, phone: 301-427-1624, e-mail: Mary.Nix@ahrq.hhs.gov.

SUPPLEMENTARY INFORMATION:

Inclusion Criteria

To be considered for inclusion, health are innovations have to meet six criteria with respect to the nature of the activity, the level of documentation, and the participation of the innovator. These are minimum requirements. The ultimate decision to publish a detailed profile of an innovation (an Innovation Profile) will depend on several factors, including an evaluation by AHRQ, AHRQ's priorities (see below), and the number of similar ideas in the Health Care Innovations Exchange. Innovations that do not qualify for an Innovation Profile may qualify as Innovation Briefs (short descriptions of intriguing activities that either do not meet the minimum requirements or are not regarded as high priority) or Innovation Attempts (descriptions of projects that did not succeed as planned). Criteria to be considered are:

The innovation is a patient care services activity

The innovation does not have to involve direct patient care or direct contact with health care consumers. However, it must have important implications for the delivery of patient care—whether preventative, emergent, chronic, acute, rehabilitative, long-term, or end-of-life. Innovations that are devices, tools, technology, software, curricula, policies, procedures, and changes to the physical environment will generally be excluded unless they are tied to a specific and associated change in the health care delivery process when implemented.

The innovation intends to improve one or more domains of health care quality

The innovation must be designed to address one or more specific measurable indicators of quality in one or more of the following domains: effectiveness, efficiency, equity, patient-centeredness, safety, and timeliness. The measurable quality indicators do not have to come from an established measure set, but they must be clearly defined and relevant to the quality issue the innovation addresses. In addition, the innovation must not contradict established standards of evidence-based care.

There is reason to believe that the innovation will be effective

Evidence that the innovation is likely to achieve its goals must be provided. Ideally, quantitative or qualitative support for a link between the innovation and improved performance on the defined quality indicator should be offered. However, if data are unavailable, limited, or lacking methodological rigor, the design or theoretical foundation of the innovative activity may serve as sufficient support.

The activity is truly innovative in a given context

For the purposes of the Health Care Innovation Exchange, innovations are activities that are generally perceived as new in a particular context or setting relative to the usual care processes. In addition to brand new ideas, this includes activities adapted from other industries to health care, transferred from one health care setting or market segment to another, drawn from settings in other countries, or applied to a new or different patient population. A description of how the innovation differs from what was regarded as standard practice in the setting in which it was implemented must be supplied.

Information about the innovation is publicly available

Innovators must be willing to make enough information freely available to enable a user of the Health Care Innovations Exchange to understand the elements of the innovation and, if desired, adopt the innovation. This requirement does not exclude innovations that incorporate commercial products or other materials for which there may be a fee or licensing requirements. It is not necessary for all information about the innovation to be publicly available, but AHRQ will need access to information with sufficient detail to produce a full profile.

The innovator (or a representative) is willing and able to participate in the Health Care Innovations Exchange

A knowledgeable contact person must be available as a resource for potential adopters of the innovation for at least one year. To minimize the burden on innovators, the Health Care Innovations Exchange staff will facilitate communication among users and developers of innovations. However, the participation of the innovator is essential to the ability of the Health Care Innovations Exchange to foster and promote the diffusion of innovations through social learning, a central goal of this program. The level of participation can vary according to innovator interest and schedules. Innovators will be expected to respond to occasional inquiries and to join a Health Care Innovations Exchange community of practice related to the innovator's particular innovation, so that ideas can be shared in an organized instructional fashion or setting.

AHRQ's Priorities

• Specific populations. AHRQ is interested in identifying innovations that will help to reduce disparities in health care and health status. Populations of interest to AHRQ are low-income groups, minority groups, women, children, the elderly, and individuals with special health care needs.

• Potential for high impact. The Health Care Innovations Exchange will give publication or dissemination priority to innovations that are likely to have a significant effect on the overall value of health care. Impact may be defined in different ways, e.g., the innovation may affect a broad population, address a critical health issue, or demonstrate large cost savings.

• Innovator interest in participating. All else being equal, AHRQ will give priority to innovators who express a strong interest in becoming involved in other activities of the Health Care Innovations Exchange, such as participating in learning networks and providing commentaries.

• AHRQ-funded innovations. The Health Care Innovations Exchange will aim to include effective innovations that are or were funded by the Agency.

Dated: September 18, 2007.
Carolyn M. Clancy,
Director.

[FR Doc. 07-4771 Filed 9-27-07; 8:45 am]

BILLING CODE 4160-90-M